DEPARTMENT OF TRANSPORTATION

Surface Transportation Board

[STB Finance Docket No. 33731]

Ellis County Rural Rail Transportation District—Construction and Operation Exemption—Ellis County, TX

AGENCY: Surface Transportation Board.

ACTION: Notice of Exemption.

SUMMARY: Under 49 U.S.C. 10502, the Board conditionally exempts from the prior approval requirements of 49 U.S.C. 10901 the construction and operation by Ellis County Rural Rail Transportation District of a 4.8-mile line of railroad in Ellis County, TX.

DATES: The exemption will not become effective until the environmental process is completed. Once that process is completed, the Board will issue a further decision addressing the environmental matters and establishing an exemption effective date at that time, if appropriate. Petitions to reopen must be filed by March 6, 2000.

ADDRESSES: Send pleadings, referring to STB Finance Docket No. 33731, to: (1) Surface Transportation Board, Office of the Secretary, Case Control Unit, 1925 K Street, NW, Washington, DC 20423-0001; and (2) Donald G. Avery, 1224 Seventeenth Street, NW, Washington, DC 20036.

FOR FURTHER INFORMATION CONTACT: Beryl Gordon, (202) 565-1600. [TDD for the hearing impaired: 1-800-877-8339.]

SUPPLEMENTARY INFORMATION: Additional information is contained in the Board's decision. To purchase a copy of the full decision, write to, call, or pick up in person from: Dá-To-Dá Office Solutions, Suite 210, 1925 K Street, N.W., Washington, DC 20006. Telephone: (202) 289-4357. [TDD for the hearing impaired: 1-800-877-8339.]

Board decisions and notices are available on our website at “WWW.STB.DOT.GOV.”

Decided: February 8, 2000.
By the Board, Chairman Morgan, Vice Chairman Burkes and Commissioner Clyburn.
Vernon A. Williams,
Secretary.

[FR Doc. 00-3528 Filed 2-14-00; 8:45 am]

BILLING CODE 4915-00-p